NATIONAL ARCHIVES AND RECORDS ADMINISTRATION

36 CFR Part 1200

RIN 3095-AB19

Official Seals and Logos

AGENCY: National Archives and Records Administration (NARA).

ACTION: Final rule.

SUMMARY: The National Archives and Records Administration (NARA) is modifying its regulations on the use of official NARA seals by the public and other Federal agencies by extending the regulations to apply to the use of official NARA logos. This part applies to the public and other Federal agencies.

DATES: This rule is effective June 10, 2004.

FOR FURTHER INFORMATION CONTACT: Kim Richardson at telephone number (301) 837-2902 or fax number (301) 837-0319.

SUPPLEMENTARY INFORMATION: NARA published a proposed rule on February 20, 2004, at 69 FR 7881, for a 60-day public comment period. NARA did not receive any comments and therefore, we are not making any changes in this final rule.

Information Collection Subject to the Paperwork Reduction Act

The information collection in § 1200.8, the written request, is subject to the Paperwork Reduction Act. Under this Act, no persons are required to respond to a collection of information unless it displays a valid OMB control number. The control number for this information collection is 3095-0052.

This final rule is not a significant regulatory action for the purposes of Executive Order 12866 and has not been reviewed by the Office of Management and Budget. This rule is not a major rule as defined in 5 U.S.C. chapter 8, Congressional Review of Agency Rulemaking. As required by the Regulatory Flexibility Act, I certify that this rule will not have a significant impact on a substantial number of small entities. This regulation does not have any federalism implications.

List of Subjects in 36 CFR Part 1200

Seals and insignia.

For the reasons set forth in the preamble, NARA amends part 1200 of title 36, Code of Federal Regulations, as follows:

PART 1200—OFFICIAL SEALS

1. The authority citation for part 1200 is revised to read as follows:

Authority: 18 U.S.C. 506, 701, and 1017; 44 U.S.C. 2104(e), 2116(b), 2302.

2. Amend § 1200.1 by adding the definition of “NARA logo” and revising the definition of “Replica or reproduction” to read as follows:

§ 1200.1 Definitions.

* * * * *

NARA logo means a name, trademark, service mark, or symbol used by NARA in connection with its programs, products, or services.

* * * * *

Replica or reproduction means a copy of an official seal or NARA logo displaying the form and content.

Subpart B—How Are NARA's Official Seals and Logos Designed and Used?

3. Revise the heading of Subpart B to read as set forth above.

4. Add § 1200.7 to Subpart B to read as follows:

§ 1200.7 What are NARA logos and how are they used?

(a) NARA's official logos include, but are not limited to, those illustrated as follows:

BILLING CODE 7515-01-P

(1) The Records Center Program;

(2) The National Historical Publications and Records Commission;

(3) American Originals;

(4) Electronic Records Archives;

(5) The Archival Research Catalog;

(6) The Archives Library Information Center;

(7) Presidential Libraries; and

(8) Federal Register publications.

(i) Electronic Code of Federal Regulations.

(ii) Regulations.gov and FedReg.gov Web sites.

(iii) Federal Register paper edition.

(iv) Code of Federal Regulations paper edition.

BILLING CODE 7515-01-C

(b) Other official NARA logos. For inquiries on other official NARA logos, contact the Office of General Counsel (NGC). Send written inquiries to the Office of General Counsel (NGC), Room 3110, 8601 Adelphi Rd., College Park, MD 20740-6001.

(c) NARA uses its logos for official business which includes but is not limited to:

(1) Exhibits;

(2) Publicity and other materials associated with a one-time or recurring NARA event or activity;

(3) NARA Web sites (Intranet and Internet);

(4) Officially approved internal and external publications; and

(5) Presentations.

(d) NARA logos may be used by the public and other Federal agencies for events or activities co-sponsored by NARA, but only with the approval of the Archivist. See subpart C for procedures to request approval for use.

Subpart C—Procedures for the Public To Request and Use NARA Seals and Logos

5. Revise the heading of Subpart C to read as set forth above.

6. Amend § 1200.8 by revising the introductory text, paragraphs (a)(2), (a)(3), and (a)(4), and paragraph (c) to read as follows:

§ 1200.8 How do I request to use the official seals and logos?

You may only use the official seals and logos if NARA approves your written request. Follow the procedures in this section to request authorization.

(a) * * *

(2) Which of the official seals and/or logos you want to use and how each is going to be displayed. Provide a sample of the document or other material on which the seal(s) and/or logo(s) would appear, marking the sample in all places where the seal(s) and/or logo(s) would be displayed;

(3) How the intended use of the official seal(s) and/or logo(s) is connected to your work with NARA on an event or activity (example: requesting to use the official NARA seal(s) and/or logo(s) on a program brochure, poster, or other publicity announcing a co-sponsored symposium or conference.); and

(4) The dates of the event or activity for which you intend to display the seal(s) and/or logo(s).

* * * * *

(c) The OMB control number 3095-0052 has been assigned to the information collection contained in this section.

7. Amend § 1200.10 by revising paragraph (b) as follows:

§ 1200.10 What are NARA's criteria for approval?

* * * * *

(b) Seals and logos will not be used on any article or in any manner that reflects unfavorably on NARA or endorses, either directly or by implication, commercial products or services, or a requestor's policies or activities.

8. Amend § 1200.12 by revising the introductory text to read as follows:

§ 1200.12 How does NARA notify me of the determination?

NARA will notify you by mail of the final decision, usually within 3 weeks from the date we receive your request. If NARA approves your request, we will send you a camera-ready copy of the official seal(s) and/or logo(s) along with an approval letter that will:

* * * * *

9. Amend § 1200.14 by revising the heading and paragraphs (a), (d), and (e) to read as follows:

§ 1200.14 What are NARA's conditions for the use of the official seals and logos?

* * * * *

(a) Use the official seals and/or logos only for the specific purpose for which approval was granted;

* * * * *

(d) Do not change the official seals and/or logos themselves. They must visually and physically appear as NARA originally designed them, with no alterations.

(e) Only use the official seal(s) and/or logo(s) for the time period designated in the approval letter (example: for the duration of a conference or exhibit).

Subpart D—Penalties for Misuse of NARA Seals and Logos

10. Revise the heading of Subpart D to read as set forth above.

11. Revise § 1200.16 to read as follows:

§ 1200.16 Will I be penalized for misusing the official seals and logos?

(a) Seals.

(1) If you falsely make, forge, counterfeit, mutilate, or alter official seals, replicas, reproductions or embossing seals, or knowingly use or possess with fraudulent intent any altered seal, you are subject to penalties under 18 U.S.C. 506.

(2) If you use the official seals, replicas, reproductions, or embossing seals in a manner inconsistent with the provisions of this part, you are subject to penalties under 18 U.S.C. 1017 and to other provisions of law as applicable.

(b) Logos. If you use the official logos, replicas or reproductions, of logos in a manner inconsistent with the provisions of this part, you are subject to penalties under 18 U.S.C. 701.

Dated: April 30, 2004.
John W. Carlin,
Archivist of the United States.

[FR Doc. 04-10317 Filed 5-10-04; 8:45 am]

BILLING CODE 7515-01-P